DEPARTMENT OF THE INTERIOR

Bureau of Land Management

[LLORM06000-L630000000.DF00000-21X.HAG21-0052]

Notice of Proposed Restrictions on Public Lands in Jackson County, OR

AGENCY: Bureau of Land Management, Interior.

ACTION: Notice of proposed restrictions.

SUMMARY: The Bureau of Land Management (BLM) proposes to restrict recreational target shooting for 2 years on certain public lands administered by the Ashland Field Office.

DATES: Interested parties may submit written comments regarding the proposed restriction until December 27, 2021.

ADDRESSES: Interested parties may submit comments regarding the proposed restriction by any of the following methods:

BLM National Environmental Policy Act (NEPA) Website: https://eplanning.blm.gov/eplanning-ui/project/123432/510.

Email: BLM_OR_AFO_Anderson_Butte_SP@blm.gov.

Mail: BLM, Medford District Office, Attention: Tye Morgan, 3040 Biddle Road, Medford, Oregon 97526.

FOR FURTHER INFORMATION CONTACT: Lauren Brown, Ashland Field Office Manager; telephone: (541) 618-2232; email: lpbrown@blm.gov; Tye Morgan, Planner and Environmental Specialist; telephone: (541) 618-2229; email: tamorgan@blm.gov. Persons who use a telecommunications device for the deaf (TDD) may call the Federal Relay Service (FRS) at 1-800-877-8339 to contact the above individuals during normal business hours. The FRS is available 24 hours a day, 7 days a week, to leave a message or question. You will receive a reply during normal business hours.

SUPPLEMENTARY INFORMATION: The BLM Ashland Field Office proposes to restrict recreational target shooting on public lands at 11 sites totaling 50 acres in the Anderson Butte area for 2 years to address public safety issues.

In compliance with the John D. Dingell, Jr. Conservation, Management, and Recreation Act (Dingell Act; 16 U.S.C. 7913(a)(1)) and 43 CFR 8364.1, notice is hereby given that the BLM proposes to implement this 2-year restriction on recreational target shooting on 11 identified sites (approximately 50 acres) in Jackson County. These proposed restrictions are necessary to ensure public safety. These recreational target shooting restrictions were proposed and analyzed in conformance with NEPA under the 2021 Anderson Butte Safety Project Environmental Assessment. The BLM solicited and incorporated public comment during the NEPA process.

The Anderson Butte area has a long history of local community residents enjoying public lands for a wide variety of uses, including hiking, horseback riding, hunting, riding off-highway vehicles, and recreational target shooting. As the Rogue Valley's population has continued to increase, so has the recreational use of the Anderson Butte area, as well as an increase in home construction in close proximity to the public lands that lie within it. These increasing pressures have resulted in a number of public safety issues and recreational user conflicts from public land visitors participating in a variety of recreational target shooting activities. There have been reported instances of these activities resulting in bullets hitting nearby private residences and other private property and bullets passing over hikers' heads while they are on designated BLM trails.

Under the Dingell Act, the BLM is required to consider public comments when temporary closures are proposed that would affect recreational target shooting on public lands. This notice announces the beginning of the 60-day comment period for the proposed temporary restriction of approximately 50 acres of public lands to recreational target shooting. Following the public comment period, the BLM will issue a final decision that will include a summary of comments received and will respond in a reasonable manner to substantive comments. The final decision will also explain how significant issues were resolved and will be made available on the project website at: https://eplanning.blm.gov/eplanning-ui/project/123432/510.

The BLM will be monitoring recreation uses and site conditions during the closure period to determine if target shooting restrictions resolve safety issues. The findings will help guide long-term solutions to these land management challenges.

Before including your address, phone number, email address, or other personal identifying information in any comment, be aware that your entire comment, including your personal identifying information, may be made publicly available at any time. While you can ask us in your comment to withhold your personal identifying information from public review, the BLM cannot guarantee that we will be able to do so.

The legal description of the affected public lands:

Table 1—Center Point of Restriction Site Locations, 250′ Buffer From Center
Site No. | Latitude, longitude | Township, range, section, and subsection
1 | 42°13′50.92″ N, 122°55′32.47″ W | T38S, R2W, Sec. 27, SW¼.
2 | 42°13′05.97″ N, 122°55′42.47″ W | T38S, R2W, Sec. 34, SW¼.
3 | 42°12′22.14″ N, 122°55′59.83″ W | T39S, R2W, Sec. 3, SW¼.
4 | 42°13′02.40″ N, 122°54′26.51″ W | T38S, R2W, Sec. 35, SW¼.
5 | 42°12′31.66″ N, 122°54′10.50″ W | T39S, R2W, Sec. 2, NE¼.
6 | 42°12′29.14″ N, 122°54′23.39″ W | T39S, R2W, Sec. 2, NW¼.
7 | 42°12′08.84″ N, 122°54′56.21″ W | T39S, R2W, Sec. 3, SE¼.
8 | 42°11′42.75″ N, 122°53′15.56″ W | T39S, R2W, Sec. 12, NW¼.
9 | 42°11′43.92″ N, 122°53′27.04″ W | T39S, R2W, Sec. 12, NW¼.
10 | 42°10′41.22″ N, 122°55′47.82″ W | T39S, R2W, Sec. 15, SW¼.
11 | 42°11′16.57″ N, 122°56′33.62″ W | T39S, R2W, Sec. 9, SE¼.

More details on the proposed closure, including maps, are available on the project website located at: https://eplanning.blm.gov/eplanning-ui/project/123432/510. A copy of this notice and map of the restricted areas will be posted at least 30 days in advance of the effective date of the restriction at the main entry points to each of these sites, at the Medford District Office, 3040 Biddle Road, Medford, OR, 97526, and on the project website.

The BLM provides notice under 43 CFR 8364.1 that, unless the BLM advises differently through the final decision and a subsequent Federal Register notice, the public lands listed earlier will be closed to recreational shooting for 2 years, starting on December 27, 2021. Therefore, the restriction authorized in the final decision would be enforced by the BLM under the authority of Section 303(a) of the Federal Land Policy and Management Act of 1976 (43 U.S.C. 1733(a)), 43 CFR 8360.0-7, and 43 CFR 8364.1 within the closure area for each site.

Any person who violates restrictions authorized in a final decision may be tried before a United States Magistrate and fined in accordance with 18 U.S.C. 3571, imprisoned no more than 12 months under 43 U.S.C. 1733(a) and 43 CFR 8360.0-7, or both. In accordance with 43 CFR 8365.1-7, State or local officials may also impose penalties for violations of State law.

(Authority: 43 CFR 8364.1 and 16 U.S.C. 7913)

Lauren P. Brown,
Ashland Field Office Manager.

[FR Doc. 2021-23495 Filed 10-27-21; 8:45 am]

BILLING CODE 4310-JB-P